FEDERAL RESERVE SYSTEM

Formations of, Acquisitions by, and Mergers of Bank Holding Companies Extension of Comment Period

The company listed in this notice has applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The public portions of the application listed below, as well as other related filings required by the Board, if any, are available for immediate inspection at the Federal Reserve Bank indicated below and at the offices of the Board of Governors. The public record of the application, including all comments received, also is available on the Board's public website at: https://www.federalreserve.gov/foia/capital-one-discover-application-materials.htm. Interested persons may express their views in writing on the standards enumerated in the BHC Act (12 U.S.C. 1842(c)), as well as the standards enumerated in section 4 of the BHC Act (12 U.S.C. 1843). Unless otherwise noted, nonbanking activities will be conducted throughout the United States.

Comments received are subject to public disclosure. In general, comments received will be made available without change and will not be modified to remove personal or business information including confidential, contact, or other identifying information. Comments should not include any information such as confidential information that would not be appropriate for public disclosure.

The comment period for this application has been extended for good cause in order to provide additional opportunity for interested persons to submit comments. Comments regarding each of these applications must be received at the Reserve Bank indicated or at the offices of the Board of Governors, Ann E. Misback, Secretary of the Board, 20th Street and Constitution Avenue NW, Washington DC 20551-0001, not later than May 31, 2024.

A. Federal Reserve Bank of Richmond (Brent B. Hassell, Assistant Vice President) P.O. Box 27622, Richmond, Virginia 23261 or electronically to Comments.applications@rich.frb.org:

1. Capital One Financial Corporation, McLean, Virginia; to acquire Discover Financial Services, Riverwoods, Illinois, and thereby indirectly acquire Discover Bank, Greenwood, Delaware. In connection with this application, Capital One Financial Corporation to acquire DFS Services LLC, Riverwoods, Illinois; Discover Financial Services (Canada), Inc., Vancouver, British Columbia, Canada; PULSE Network LLC, Houston, Texas; and Diners Club International Ltd., Riverwoods, Illinois, and thereby engage in activities closely related to banking including extending credit and servicing loans, activities related to extending credit, and data processing pursuant to section 225.28(b)(1), (b)(2), and (b)(14), respectively, of the Board's Regulation Y.

Board of Governors of the Federal Reserve System.
Ann Misback,
Secretary of the Board.

[FR Doc. 2024-09170 Filed 4-26-24; 8:45 am]

BILLING CODE P